DEPARTMENT OF AGRICULTURE

Forest Service

North Gifford Pinchot National Forest Resource Advisory Committee

AGENCY: Forest Service, USDA.

ACTION: Notice of meeting.

SUMMARY: The North Gifford Pinchot Resource Advisory Committee will meet in Salkum, Washington. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review and recommend fiscal year 2012 Title II project nominations.

DATES: The meeting will be held Thursday, June 2, 2011 beginning at 9:30 a.m.

ADDRESSES: The meeting will be held at Salkum Timberland Library, 2480 US Highway 12, Salkum, WA 98582. Written comments may be submitted as described under SUPPLEMENTARY INFORMATION.

All comments, including names and addresses when provided, are placed in the record and are available for public inspection and copying. The public may inspect comments received at Gifford Pinchot National Forest Headquarters, 10600 NE. 51st Circle, Vancouver, WA 98682. Please call ahead to 360-891-5001 to facilitate entry into the building to view comments.

FOR FURTHER INFORMATION CONTACT: Robert West, Partnership Coordinator, Gifford Pinchot National Forest, 360-891-5068, and robertwest@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information.

SUPPLEMENTARY INFORMATION: The following business will be conducted: Approval of agenda and minutes; public forum opportunity; election of chair and vice chair; update on prior year Title II projects, and review and recommendations of individual fiscal year 2012 Title II project nominations. Anyone who would like to bring related matters to the attention of the committee may file written statements with the committee staff before or after the meeting. The agenda will include time for people to make oral statements of three minutes or less. Individuals wishing to make an oral statement should request in writing by May 1, 2011, to be scheduled on the agenda. Written comments and requests for time for oral comments must be sent to Gifford Pinchot National Forest attn: Robert West, 10600 NE. 51st Circle, Vancouver, WA 98682, or by e-mail to robertwest@fs.fed.us or via facsimile to 360-891-5045.

Dated: April 27, 2011.
Ron Freeman,
Acting Forest Supervisor.

[FR Doc. 2011-10873 Filed 5-4-11; 8:45 am]

BILLING CODE 3410-11-M